ENVIRONMENTAL PROTECTION AGENCY

[FRL-9971-96-OARM]

Senior Executive Service Performance Review Board; Membership

AGENCY: U.S. Environmental Protection Agency (EPA).

ACTION: Notice.

SUMMARY: Notice is hereby given of the membership of the U.S. Environmental Protection Agency (EPA) Performance Review Board for 2017.

FOR FURTHER INFORMATION CONTACT: Vickie H. Tellis, Acting Director, Executive Resources Division, 3606A, Office of Human Resources, Office of Administration and Resources Management, U.S. Environmental Protection Agency, 1200 Pennsylvania Avenue NW, Washington, DC 20460 (202) 564-2653.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2017 EPA Performance Review Board are:

Regional Allen, Director, Office of Administrative and Executive Services, Office of the Administrator

John Armstead, Director, Land and Chemicals Division, Region 3

Beverly Banister, Director, Air, Pesticides and Toxics Management Division, Region 4

Sheryl Bilbrey, Director, Office of Environmental Cleanup, Region 10

David Bloom, Deputy Chief Financial Officer, Office of the Chief Financial Officer

Edward Chu, Deputy Regional Administrator, Region 7

Sam Coleman, Deputy Regional Administrator, Region 6

Diana Esher, Assistant Regional Administrator for Policy and Management, Region 3

Sheila Frace, Deputy Director, Office of Wastewater Management, Office of Water

Lynn Flowers, Associate Director for Science, Office of Science Policy, Office of Research and Development

Nancy Grantham, Senior Advisor for Emergency Response Communications, Office of the Administrator

Linda Gray (Ex-Officio), Director, Office of Human Resources, Office of Administration and Resources Management

Peter Grevatt, Director, Office of Ground Water and Drinking Water, Office of Water

Christopher Grundler, Director, Office of Transportation and Air Quality, Office of Air and Radiation

Margaret Guerriero, Director, Land and Chemicals Division, Region 5

Randy Hill, Director, Enforcement Targeting & Data Division, Office of Enforcement and Compliance Assurance

Deborah Jordan, Director, Air Division, Region 9

Mark Kasman, Director, Office of Regional & Bilateral Affairs, Office of International and Tribal Affairs

Richard Keigwin, Deputy Director, Office of Pesticide Programs, Office of Chemical Safety and Pollution Prevention

Michael Kenyon, Assistant Regional Administrator for Administration and Resources Management, Region 1

Kenneth Lapierre, Assistant Regional Administrator for Policy and Management, Region 4

Tanya Lawrence, Acting Director, Office Civil Rights, Office of the Administrator

Matthew Leopard, Director, Office of Information Management, Office of Environmental Information

David Lloyd, Director, Office of Brownfields and Land Revitalization, Office of Land and Emergency Management

Catherine McCabe, Deputy Regional Administrator, Region 2

James McDonald, Assistant Regional Administrator for Management, Region 6

Oscar Morales, Associate Assistant Administrator for Management, Office of Chemical Safety and Pollution Prevention

Howard Osborne, Associate Chief Financial Officer, Office of the Chief Financial Officer

Elise Packard, Associate General Counsel, Civil Rights and Finance Law, Office of General Counsel

Denise Polk, Director, Office of Grants and Debarment, Office of Administration and Resources Management

Sylvia Quast, Regional Counsel—Region 9, Office of Enforcement and Compliance Assurance

Mary Ellen Radzikowski, Deputy Director for Management, National Center for Environmental Research, Office of Research and Development

Christopher Robbins, Associate Assistant Administrator, Office of Research and Development

Gregory Sayles, Director, National Homeland Security Research Center, Office of Research and Development

Lorie Schmidt, Associate General Counsel—Air and Radiation, Office of General Counsel

John Showman, Director, Office of Resources, Operations and Management, Office of Administration and Resources Management

Nigel Simon, Director, Office of Program Management, Office of Land and Emergency Management

Walker Smith, Director, Office of Global Affairs and Policy, Office of International and Tribal Affairs

Kevin Teichman, Senior Science Advisor, Office Research and Development

Vickie Tellis, Acting Director, Executive Resources Division, Office of Human Resources, Office of Administration and Resources Management

Debra Thomas, Deputy Regional Administrator, Region 8

Donna Vizian, (Ex-Officio), Principal Deputy Assistant Administrator, Office of Administration and Resources Management

Jeffery Wells, Deputy Director, Office of Customer Advocacy, Policy and Portfolio Management, Office of Environmental Information

Pai-Yei Whung, Senior Research Scientist, Office of Research and Development

Anna Wood, Director, Air Quality Policy Division—Research Triangle Park, Office of Air and Radiation

Helena Wooden-Aguilar, Acting Deputy Chief of Staff, Office of the Administrator

Dated: December 4, 2017.
Donna J. Vizian,
Principal Deputy Assistant Administrator, Office of Administration and Resources Management.

[FR Doc. 2017-26895 Filed 12-12-17; 8:45 am]

BILLING CODE 6560-50-P